DEPARTMENT OF JUSTICE

Office of Violence Against Women Office; Agency Information Collection Activities: Proposed Collection; Comment Request

ACTION: Notice of information collection under review; New collection. Data Collection from Grantees from the Grants to Reduce Violent Crimes Against Women on Campus Program.

The Department of Justice, Office of Justice Programs, Violence Against Women Office, has submitted the following information collection request to the Office of Management and Budget (OMB) for review and clearance in accordance with emergency review procedures of the Paperwork Reduction Act of 1995. OMB approval has been requested by January 4, 2002. The proposed information collection is published to obtain comments from the public and affected agencies. If granted, the emergency approval is only valid for 180 days. Comments should be directed to OMB, Office of Information Regulation Affairs, (202) 395-7860, Department of Justice Desk Officer, Washington, DC 20530.

During the first 60 days of this same review period, a regular review of this information collection is also being undertaken. All comments and suggestions, or questions regarding additional information, to include obtaining a copy of the proposed information collection instrument with instructions, should be directed to Cathy Poston, Attorney/Advisor, Violence Against Women Office, Office of Justice Programs, 810 7th Street, NW., Washington, DC 20531, or facsimile at (202) 305-2589.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of Information Collection: New collection.

(2) Title of the Form/Collection: Data Collection from Grantees from the Grants to Reduce Violent Crimes Against Women on Campus Program.

(3) Agency form number, if any, and the applicable component of the Department sponsoring the collection: None. Violence Against Women Office, Office of Justice Programs, United States Department of Justice.

(4) Affected public who will be as or required to respond, as well as a brief abstract: Primary: Institutions of Higher Education. Other: None.

The Grants to Reduce Violent Crimes Against Women on Campus Program was authorized through Section 826 of the Higher Education Amendments of 1998 to make funds available to institutions of higher education to combat domestic violence, dating violence, sexual assault and stalking crimes.

(5) An estimate of the total number of respondents and the amount of time estimated for an average respondent to respond/reply: The time burden of the 45 respondents to complete the data collection form is 60 minutes per application.

(6) An estimate of the total public burden (in hours) associated with the collection: The total annual hour burden to complete the data collection forms is 45 annual burden hours.

If additional information is required contact: Ms. Brenda E. Dyer, Deputy, Clearance Office, United States Department of Justice, Information Management and Security Staff, Justice Management Division, Suite 1600, 601D Street, NW., Washington, DC 20530.

Dated: December 18, 2001.
Brenda E. Dyer,
Department Deputy Clearance Officer, Department of Justice.

[FR Doc. 02-159 Filed 1-3-02; 8:45 am]

BILLING CODE 4410-18-M